DEPARTMENT OF THE INTERIOR

Fish and Wildlife Service

Withdrawal of Finding of No Significant Impact and Final Environmental Assessment on Management of Mute Swans in the Atlantic Flyway

AGENCY: Fish and Wildlife Service, Interior.

ACTION: Notice.

SUMMARY: The U.S. Fish and Wildlife Service (the Service) published a Finding of No Significant Impact (FONSI) and Final Environmental Assessment (FEA) for the Management of Mute Swans in the Atlantic Flyway on August 7, 2003. The Service is withdrawing those decision documents. Effective immediately, these documents will not be used to support the issuance of depredation permits authorizing the take of mute swans (Cygnus olor) under the Migratory Bird Treaty Act (MBTA). No new mute swan depredation permits will be issued pending completion of further review under the National Environmental Policy Act (NEPA).

FOR FURTHER INFORMATION CONTACT: Brian A. Millsap, U.S. Fish and Wildlife Service, Division of Migratory Bird Management, Mail Stop MS MBSP-4107, 4401 North Fairfax Drive, Arlington, Virginia 22203.

SUPPLEMENTARY INFORMATION: On July 2, 2003, the U.S. Fish and Wildlife Service (the Service) provided notice (68 FR 39593) that a Draft Environmental Assessment for the Management of Mute Swans in the Atlantic Flyway was available for public review and comment. The 15-day public comment period ended on July 16, 2003. On August 7, 2003, the Service published a notice of availability (68 FR 47084) of the FEA and the full text of the FONSI.

On August 11, 2003, in accordance with the FEA and the FONSI, the Service issued a permit under authority of the MBTA to the Maryland Department of Natural Resources authorizing the take of up to 525 mute swans between August 27 and December 12, 2003. The Service's issuance of this permit was challenged in Federal court. A preliminary injunction enjoining the take of any mute swans under this permit pending a final ruling on the merits was issued by the U.S. District Court for the District of Columbia on September 9, 2003 (“The Fund for Animals, et al. v. Norton, Civil Action No. ECF-03-1710”).

The Court's decision on the preliminary injunction raised serious issues regarding the FEA and FONSI referenced above and the Service therefore is withdrawing these documents. Effective immediately, these documents will no longer be used to support the issuance of depredation permits authorizing the take of mute swans. No new mute swan depredation permits will be issued pending completion of a new review under NEPA.

Dated: October 2, 2003.
Matt Hogan,
Director, U.S. Fish and Wildlife Service.

[FR Doc. 03-25644 Filed 10-8-03; 8:45 am]

BILLING CODE 4310-55-P